DEPARTMENT OF COMMERCE

Bureau of Industry and Security

Action Affecting Export Privileges; Galaxy Aviation Trade Company Ltd.; Hooshang Seddigh; Hamid Shakeri Hendi; Hossein Jahan Peyma; Iran Air; Ankair

In the Matter of:

Galaxy Aviation Trade Company Ltd., 15 Moreland Court, Lyndale Avenue, Finchley Road, London, UK, NW2 2PJ;

Hooshang Seddigh, 15 Moreland Court, Lyndale Avenue, Finchley Road, London, UK, NW2 2PJ;

Hamid Shakeri Hendi, 5th Floor, 23 Nafisi Avenue, Shahrak Ekbatan, Karaj Special Road, Tehran, Iran;

Hossein Jahan Peyma, 2/1 Makran Cross, Heravi Square, Moghan Ave, Pasdaran Cross, Tehran, Iran;

Iran Air, Second Floor, No. 23 Nafisi Avenue, Ekbatan, Tehran, Iran;

Ankair, Yesilkoy Asfalti Istanbul No. 13/4, Florya, Istanbul, Turkey TR-34810; Respondents.

Order Temporarily Denying Export Privileges

Pursuant to Section 766.24 of the Export Administration Regulations (“EAR”),¹ the Bureau of Industry and Security (“BIS”), U.S. Department of Commerce, through its Office of Export Enforcement (“OEE”), has requested that I issue an Order temporarily denying, for a period of 180 days, the export privileges under the EAR of:

¹ The EAR is currently codified at 15 CFR Parts 730-774 (2008). The EAR are issued under the Export Administration Act of 1979, as amended (50 U.S.C. app. 2401-2420 (2000)) (“EAA”). Since August 21, 2001, the Act has been in lapse and the President, through Executive Order 13222 of August 17, 2001 (3 CFR, 2001 Comp. 783 (2002)), which has been extended by successive presidential notices, the most recent being that of August 15, 2007 (72 FR 46137 (August 16, 2007)), has continued the Regulations in effect under the International Emergency Economics Powers Act (50 U.S.C. 1701-1706 (2000)) (“IEEPA”).

1. Galaxy Aviation Trade Company LTD, 15 Moreland Court, Lyndale Avenue, Finchley Road, London, UK, NW2 2PJ.

2. Hooshang Seddigh, 15 Moreland Court, Lyndale Avenue, Finchley Road, London, UK, NW2 2PJ.

3. Hamid Shakeri Hendi, 5th Floor, 23 Nafisi Avenue, Shahrak Ekbatan, Karaj Special Road, Tehran, Iran.

4. Hossein Jahan Peyma, 2/1 Markran Cross, Heravi Square, Moghan Ave, Pasdaran Cross, Tehran, Iran.

5. Iran Air, Second Floor, No. 23, Nafisi Avenue, Ekbatan, Tehran, Iran. BIS also has requested that I issue a non-standard Order temporarily denying, for a period of 180 days, certain export privileges under the EAR of:

6. Ankair, Yesilkoy Asfalti Istanbul No. 13/4, Florya, Istanbul, Turkey TR-34810.

Specifically, with regard to Ankair, BIS has requested that I temporarily deny, for a period of 180 days, the export privileges of Ankair relating to a Boeing 747 that has the manufacturer serial number 24134, and current tail number TC-AKZ (“the Boeing 747”).

In its request, BIS has presented evidence that Galaxy Aviation Trade Company Ltd. (“Galaxy”) is preparing to purchase immediately from Ankair, the Boeing 747, currently located in Turkey, for immediate re-export to Iran, and specifically to Iran Air in Tehran, Iran, without the U.S. Government authorization required by Section 746.7 of the EAR. Additional evidence provided through corporate registration information shows that Hooshang Seddigh is a director and principal shareholder of Galaxy. Hamid Shakeri Hendi also is a principal shareholder of Galaxy and has a listed address in the same building as Iran Air's headquarters in Tehran, Iran. Another Galaxy principal shareholder, Hossein Jahan Peyma, also lists a Tehran, Iran address. Open source information, including aviation Web sites, show the Boeing 747 at issue is registered in Turkey and evidence presented by OEE indicates that Galaxy is seeking to purchase the Boeing 747 from Ankair in the immediate future.

I find that the evidence presented by BIS demonstrates that a violation of the Regulations is imminent in both time and degree of likelihood. As such, a TDO is needed to give notice to persons and companies in the United States and abroad that they should cease dealing with the Respondents in export transactions involving items subject to the EAR. Such a TDO is consistent with the public interest to preclude future violations of the EAR.

Accordingly, I find that a TDO naming Galaxy Aviation Trade Company Ltd., Hooshang Seddigh, Hamid Shakeri Hendi, Hossein Jahan Peyma, and Iran Air is necessary, in the public interest, to prevent an imminent violation of the EAR. In addition, I find that a non-standard TDO naming Ankair is necessary in the public interest to prevent an imminent violation of the EAR involving the Boeing 747.

This Order is being issued on an ex parte basis without a hearing based upon BIS's showing of an imminent violation.

It is therefore ordered:

First, that, Galaxy Aviation Trade Company Ltd., 15 Moreland Court, Lyndale Avenue, Finchley Road, London, UK, NW2 2PJ; Hooshang Seddigh, 15 Moreland Court, Lyndale Avenue, Finchley Road, London, UK, NW2 2PJ; Hamid Shakeri Hendi, 5th Floor, 23 Nafisi Avenue, Shahrak Ekbatan, Karaj Special Road, Tehran, Iran; Hossein Jahan Peyma, 2/1 Markran Cross, Heravi Square, Moghan Ave, Pasdaran Cross, Tehran, Iran; Iran Air, Second Floor, No. 23, Nafisi Avenue, Ekbatan, Tehran, Iran (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of any Denied Person any item subject to the EAR;

B. Take any action that facilitates the acquisition or attempted acquisition by any Denied Person of the ownership, possession, or control of any item subject to the EAR that has been or will be exported from the United States, including financing or other support activities related to a transaction whereby any Denied Person acquires or attempts to acquire such ownership, possession or control;

C. Take any action to acquire from or to facilitate the acquisition or attempted acquisition from any Denied Person of any item subject to the EAR that has been exported from the United States;

D. Obtain from any Denied Person in the United States any item subject to the EAR with knowledge or reason to know that the item will be, or is intended to be, exported from the United States; or

E. Engage in any transaction to service any item subject to the EAR that has been or will be exported from the United States and which is owned, possessed or controlled by any Denied Person, or service any item, of whatever origin, that is owned, possessed or controlled by any Denied Person if such service involves the use of any item subject to the EAR that has been or will be exported from the United States. For purposes of this paragraph, servicing means installation, maintenance, repair, modification or testing.

Third, that, Ankair, Yesilkoy Asfalti Istanbul No. 13/4, Florya, Istanbul, Turkey TR 34810, may not, directly or indirectly, participate in any way in any transaction involving the Boeing 747 (manufacturer serial number 24134, and current tail number TC-AKZ) including, but not limited to:

A. Applying for, obtaining, or using any license, license exception, or export control document involving Boeing 747 (manufacturer serial number 24134, and current tail number TC-AKZ);

B. Carrying on negotiations concerning, or ordering, buying, receiving, using, selling, delivering, storing, disposing of, forwarding, transporting, financing, or otherwise servicing in any way, any transaction involving Boeing 747 (manufacturer serial number 24134, and current tail number TC-AKZ);

C. Benefiting in any way from any transaction involving Boeing 747 (manufacturer serial number 24134, and current tail number TC-AKZ)

Fourth, that no person may, directly or indirectly, do any of the following:

A. Export or re-export on behalf of Ankair the Boeing 747 (manufacturer serial number 24134, and current tail number TC-AKZ); or

B. Take any action to acquire from, lease, or otherwise facilitate the acquisition or attempted acquisition from Ankair of the Boeing 747 (manufacturer serial number 24134, and current tail number TC-AKZ).

Fifth, that after notice and opportunity for comment as provided in section 766.23 of the EAR, any other person, firm, corporation, or business organization related to any of the Respondents by affiliation, ownership, control, or position of responsibility in the conduct of trade or related services may also be made subject to the provisions of this Order.

Sixth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents and shall be published in the Federal Register.

This Order is effective upon issuance and shall remain in effect for 180 days.

Entered this 6th day of June 2008.
Darryl W. Jackson,
Assistant Secretary of Commerce for Export Enforcement.

[FR Doc. E8-13571 Filed 6-16-08; 8:45 am]

BILLING CODE 3510-DT-P